DEPARTMENT OF ENERGY

Federal Energy Regulatory Commission

Combined Notice of Filings #1

Take notice that the Commission received the following electric rate filings:

Docket Numbers: ER22-2362-001.

Applicants: California Independent System Operator Corporation.

Description: Compliance filing: 2023-06-16 Revisions to Comply with Order No. 881 to be effective 12/31/9998.

Filed Date: 6/16/23.

Accession Number: 20230616-5056.

Comment Date: 5 p.m. ET 7/7/23.

Docket Numbers: ER23-1732-001.

Applicants: Shady Oaks Wind 2, LLC.

Description: Tariff Amendment: Amendment to Certificate of Concurrence Filing (ER23-1732-) to be effective 4/28/2023.

Filed Date: 6/16/23.

Accession Number: 20230616-5038.

Comment Date: 5 p.m. ET 6/26/23.

Docket Numbers: ER23-1895-000.

Applicants: Solar Partners XI, LLC.

Description: Supplement to May 16, 2023, Solar Partners XI, LLC tariff filing.

Filed Date: 6/15/23.

Accession Number: 20230615-5162.

Comment Date: 5 p.m. ET 6/26/23.

Docket Numbers: ER23-2151-000.

Applicants: Connecticut Gas & Electric, Inc.

Description: § 205(d) Rate Filing: CG&E Notice of Succession and MBR Tariff Revisions to be effective6/17/2023.

Filed Date: 6/16/23.

Accession Number: 20230616-5016.

Comment Date: 5 p.m. ET 7/7/23.

Docket Numbers: ER23-2152-000.

Applicants: Energy Services Providers, Inc.

Description: § 205(d) Rate Filing: ESP Notice of Succession and MBR Tariff Revisions to be effective 6/17/2023.

Filed Date: 6/16/23.

Accession Number: 20230616-5018.

Comment Date: 5 p.m. ET 7/7/23.

Docket Numbers: ER23-2153-000.

Applicants: Illinois Power Marketing Company.

Description: § 205(d) Rate Filing: IPMC Notice of Succession and MBR Tariff Revisions to be effective 6/17/2023.

Filed Date: 6/16/23.

Accession Number: 20230616-5019.

Comment Date: 5 p.m. ET 7/7/23.

Docket Numbers: ER23-2154-000.

Applicants: PJM Interconnection, L.L.C.

Description: Tariff Amendment: Notice of Cancellation of WMPA, SA No. 6424; Queue No. AG1-246 re: Breach to be effective 8/15/2022.

Filed Date: 6/16/23.

Accession Number: 20230616-5021.

Comment Date: 5 p.m. ET 7/7/23.

Docket Numbers: ER23-2155-000.

Applicants: Massachusetts Gas & Electric, Inc.

Description: § 205(d) Rate Filing: MG&E Notice of Succession and MBR Tariff Revisions to be effective6/17/2023.

Filed Date: 6/16/23.

Accession Number: 20230616-5024.

Comment Date: 5 p.m. ET 7/7/23.

Docket Numbers: ER23-2156-000.

Applicants: Public Power & Utility of NY, Inc.

Description: § 205(d) Rate Filing: PP&U NY Notice of Succession and MBR Tariff Revisions to be effective6/17/2023.

Filed Date: 6/16/23.

Accession Number: 20230616-5025.

Comment Date: 5 p.m. ET 7/7/23.

Docket Numbers: ER23-2157-000.

Applicants: Southwest Power Pool, Inc.

Description: § 205(d) Rate Filing: 1887R13 Evergy Kansas Central, Inc. NITSA NOA to be effective 9/1/2023.

Filed Date: 6/16/23.

Accession Number: 20230616-5027.

Comment Date: 5 p.m. ET 7/7/23.

Docket Numbers: ER23-2158-000.

Applicants: Northern Indiana Public Service Company LLC.

Description: § 205(d) Rate Filing: Morgan CIAC Agreement to be effective 10/1/2023.

Filed Date: 6/16/23.

Accession Number: 20230616-5028.

Comment Date: 5 p.m. ET 7/7/23.

Docket Numbers: ER23-2159-000.

Applicants: Southwest Power Pool, Inc.

Description: § 205(d) Rate Filing: 1889R12 Evergy Kansas Central, Inc. NITSA NOA to be effective 9/1/2023.

Filed Date: 6/16/23.

Accession Number: 20230616-5037.

Comment Date: 5 p.m. ET 7/7/23.

Docket Numbers: ER23-2160-000.

Applicants: Southwest Power Pool, Inc.

Description: § 205(d) Rate Filing: 1891R12 Evergy Kansas Central, Inc. NITSA NOA to be effective 9/1/2023.

Filed Date: 6/16/23.

Accession Number: 20230616-5043.

Comment Date: 5 p.m. ET 7/7/23.

Docket Numbers: ER23-2161-000.

Applicants: Alabama Power Company, Georgia Power Company, Mississippi Power Company.

Description: § 205(d) Rate Filing: Alabama Power Company submits tariff filing per 35.13(a)(2)(iii: Pachuta Solar A (Solar & ESS) LGIA Filing to be effective 6/5/2023.

Filed Date: 6/16/23.

Accession Number: 20230616-5069.

Comment Date: 5 p.m. ET 7/7/23.

Docket Numbers: ER23-2162-000.

Applicants: Alabama Power Company, Georgia Power Company, Mississippi Power Company.

Description: Tariff Amendment: Alabama Power Company submits tariff filing per 35.15: Three Rocks Solar Amended & Restated LGIA Termination Filing to be effective 6/16/2023.

Filed Date: 6/16/23.

Accession Number: 20230616-5070.

Comment Date: 5 p.m. ET 7/7/23.

Docket Numbers: ER23-2163-000.

Applicants: Southwest Power Pool, Inc.

Description: § 205(d) Rate Filing: 1897R13 Evergy Kansas Central, Inc. NITSA NOA to be effective 9/1/2023.

Filed Date: 6/16/23.

Accession Number: 20230616-5071.

Comment Date: 5 p.m. ET 7/7/23.

Docket Numbers: ER23-2164-000.

Applicants: Alabama Power Company, Georgia Power Company, Mississippi Power Company.

Description: Tariff Amendment: Alabama Power Company submits tariff filing per 35.15: Wiregrass LGIA Termination Filing to be effective 6/16/2023.

Filed Date: 6/16/23.

Accession Number: 20230616-5072.

Comment Date: 5 p.m. ET 7/7/23.

Docket Numbers: ER23-2165-000.

Applicants: Alabama Power Company, Georgia Power Company, Mississippi Power Company.

Description: Compliance filing: Alabama Power Company submits tariff filing per 35: Amendment of OATT Attachment C to be effective 12/31/9998.

Filed Date: 6/16/23.

Accession Number: 20230616-5073.

Comment Date: 5 p.m. ET 7/7/23.

Docket Numbers: ER23-2166-000.

Applicants: Alabama Power Company, Georgia Power Company, Mississippi Power Company.

Description: Compliance filing: Alabama Power Company submits tariff filing per 35: Amendment of OATT Attachment T to be effective 12/31/9998.

Filed Date: 6/16/23.

Accession Number: 20230616-5074.

Comment Date: 5 p.m. ET 7/7/23.

Docket Numbers: ER23-2167-000.

Applicants: NorthWestern Corporation.

Description: Tariff Amendment: Cancellation of SA 807 Agreement with Buffalo Trail Solar to be effective 6/16/2023.

Filed Date: 6/16/23.

Accession Number: 20230616-5080.

Comment Date: 5 p.m. ET 7/7/23.

Docket Numbers: ER23-2168-000.

Applicants: NorthWestern Corporation.

Description: Tariff Amendment: Cancellation of SA 924 Agreement with TRECO to be effective 6/21/2023.

Filed Date: 6/16/23.

Accession Number: 20230616-5104.

Comment Date: 5 p.m. ET 7/7/23.

Docket Numbers: ER23-2169-000.

Applicants: Midcontinent Independent System Operator, Inc.

Description: § 205(d) Rate Filing: 2023-06-16_CTA proposal to increase application study deposit to be effective 8/16/2023.

Filed Date: 6/16/23.

Accession Number: 20230616-5118.

Comment Date: 5 p.m. ET 7/7/23.

Docket Numbers: ER23-2170-000.

Applicants: Duke Energy Progress, LLC.

Description: § 205(d) Rate Filing: Unexecuted Amended & Restated Affected Sys Operating Agmt with Edgecomb to be effective 8/16/2023.

Filed Date: 6/16/23.

Accession Number: 20230616-5164.

Comment Date: 5 p.m. ET 7/7/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

Dated: June 16, 2023.
Debbie-Anne A. Reese,
Deputy Secretary.

[FR Doc. 2023-13384 Filed 6-22-23; 8:45 am]

BILLING CODE 6717-01-P